DEPARTMENT OF JUSTICE

Notice of Lodging Proposed Consent Decree

In accordance with Departmental Policy, 28 CFR 50.7, notice is hereby given that a proposed Consent Decree in United States v. Newdunn Associates, LLP., Orion Associates, and Northwest Contractors, E.D. Va., Civil Action No. 2:01cv508, was lodged with the United States District Court for the Eastern District of Virginia on May 20, 2005.

This proposed Consent Decree concerns a complaint filed by the United States against Newdunn Associates, LLP., Orion Associates, and Northwest Contractors, pursuant to section 301(a) of the Clean Water Act, 33 U.S.C. 1311(a), to obtain injunctive relief from, and impose civil penalties against the Defendants for violating the Clean Water Act by discharging pollutants without a permit into waters of the United States. The proposed Consent Decree resolves these allegations by requiring the Defendants to restore the impacted areas, perform mitigation, and pay a civil penalty.

The Department of Justice will accept written comments relating to this proposed Consent Decree for thirty (30) days from the date of publication of this notice. Please address comments to Kent E. Hanson, United States Department of Justice, Environment and Natural Resources Division, Environmental Defense Section, P.O. Box 23986, Washington, DC 2002-3986, and refer to Newdunn Associates.

The proposed Consent Decree may be examined at the Clerk's Office, United States District Court for the Eastern District of Virginia, 600 Granby Street, Norfolk, Virginia 23510. In addition, the proposed Consent Decree may be viewed at http://www.usdoj.gov/enrd/open.html.

Russell M. Young,
Assistant Chief, Environmental Defense Section, Environment and Natural Resources Division, United States Department of Justice.

[FR Doc. 05-11423 Filed 6-8-05; 8:45 am]

BILLING CODE 4410-15-M